Securities and Exchange Commission

Sunshine Act Meeting

TIME AND DATE: Notice is hereby given, pursuant to the provisions of the Government in the Sunshine Act, Public Law 94-409, that the Securities and Exchange Commission will hold an Open Meeting on Tuesday, June 5, 2018 at 10:00 a.m.

PLACE: The meeting will be held in the Multi-Purpose Room L-006 at the Commission's headquarters, 100 F Street NE, Washington, DC 20549.

STATUS: The meeting will begin at 10:00 a.m. (ET) and will be open to the public. Seating will be on a first-come, first-served basis. Visitors will be subject to security checks. The meeting will be webcast on the Commission's website at www.sec.gov.

MATTERS TO BE CONSIDERED: The subject matters of the Open Meeting will be the Commission's consideration of:

• Whether to adopt a new rule as well as amendments to rules and forms to provide certain registered investment companies (“funds”) with an optional method to transmit shareholder reports.

• whether to issue a release requesting comment about processing fees for delivering shareholder reports and other materials to fund investors.

• whether to issue a release requesting comment from individual investors and other interested parties on how to enhance the delivery, design, and content of fund disclosures, including shareholder reports and prospectuses.

• whether to propose amendments to rules adopted under section 13 of the Bank Holding Company Act related to prohibitions and restrictions on proprietary trading and certain interests in, and relationships with, hedge funds and private equity funds (commonly known as the “Volcker rule”).

At times, changes in Commission priorities require alterations in the scheduling of meeting items.

CONTACT PERSON FOR MORE INFORMATION: For further information, please contact Brent J. Fields from the Office of the Secretary at (202) 551-5400.

Dated: May 29, 2018.
Brent J. Fields,
Secretary.

[FR Doc. 2018-11917 Filed 5-30-18; 4:15 pm]

BILLING CODE 8011-01-P